ENVIRONMENTAL PROTECTION AGENCY

[FRL-8505-2]

Federal Advisory Committee To Examine Detection and Quantitation Approaches in Clean Water Act Programs

AGENCY: Environmental Protection Agency (EPA).

ACTION: Notice; FACA Committee Meeting Announcement.

SUMMARY: As required by the Federal Advisory Committee Act, Public Law 92-463, the Environmental Protection Agency is announcing a one-day meeting of the Federal Advisory Committee on Detection and Quantitation Approaches and Uses in Clean Water Act (CWA) Programs (FACDQ).

DATES: A meeting of the FACDQ will be held on Friday, December 21, 2007 via teleconference. The teleconference will be from 8 a.m. to 8 p.m., Eastern Time.

ADDRESSES: The teleconference is open to the public. The public may obtain the call-in number and access code for the teleconference lines from Meghan Hessenauer, whose contact information is listed under the FOR FURTHER INFORMATION CONTACT section of this notice.

Document Availability: The purpose of this meeting is described in the General Information section of this notice. The draft agenda may also be viewed on our Web site at http://www.epa.gov/waterscience/methods/det. Any member of the public interested in making an oral presentation at the Committee meeting may contact Richard Reding, whose contact information is listed under FOR FURTHER INFORMATION CONTACT section of this notice. Requests for making oral presentations will be accepted up to 2 business days prior to the meeting date. In general, each individual making an oral presentation will be limited to a total of three minutes.

Submitting Comments

Written comments may be submitted electronically, by mail, or through hand delivery/courier. Follow the detailed instructions as provided in section I.B of the SUPPLEMENTARY INFORMATION section. Written comments will be accepted up to two business days prior to the meeting date.

FOR FURTHER INFORMATION CONTACT: Meghan Hessenauer, Engineering and Analysis Division, MC4303T, Environmental Protection Agency, 1200 Pennsylvania Ave., NW., Washington, DC 20460; Telephone number: (202) 566-1040; Fax number: (202) 566-1053; E-mail address: Hessenauer.Meghan@EPA.GOV; Richard Reding, Designated Federal Officer, Environmental Protection Agency, Office of Water, Mail Code 4303T, 1200 Pennsylvania Ave., NW., Washington, DC 20460; Telephone number: (202) 566-2237; Fax number: (202) 566-1053; E-mail address: Reding.Richard@EPA.GOV.

SUPPLEMENTARY INFORMATION:

I. General Information

This notice announces one meeting of the FACDQ. The purpose of this meeting is to finalize the report document, “Report of the Federal Advisory Committee on Detection and Quantitation Approaches and Uses in Clean Water Act Programs.” The draft meeting agenda will be available on the Internet at http://www.epa.gov/waterscience/methods/det.

EPA acknowledges short advance notice of this meeting for the following reasons. The Committee members' letters of appointment expire at the end of December 2007, and thus, EPA needs to conclude deliberations and produce a final report within that timeframe. The goal of the Committee's last meeting, on December 5 and 6, 2007, was to finalize the Committee's report to the EPA Administrator, and the Committee agreed to most of the decisions needed for closure on the final report. Only a few additional discussions and decisions remain; those will be the focus of the December 21st meeting. In large part, the December 21 meeting is a minor add-on to the earlier December meeting. To accommodate the Committee members' calendars and the short number of weeks remaining in 2007, EPA is moving forward quickly to convene the final meeting and today provides as much notice as was possible.

Information on Services for Individuals With Disabilities

For information on access or services for individuals with disabilities, please contact Meghan Hessenauer at (202) 566-1040 or e-mail: hessenauer.meghan@epa.gov to request accommodation of a disability, at least ten days prior to the meeting, to give EPA as much time as possible to process your request.

A. How Can I Get Copies of Related Information?

1. Docket. EPA has established an official public docket for this committee under Docket ID No., EPA-HQ-OW-2004-0041. The official public docket consists of the documents specifically referenced in this action, any public comments received, and other information related to this action. Documents in the official public docket are listed in the index in EPA's electronic public docket and comment system, EDOCKET. Documents are available either electronically or in hard copy. Electronic documents may be viewed through EDOCKET. Hard copies of the draft agendas may be viewed at the EPA Docket Center (EPA/DC), EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OW Docket is (202) 566-2426.

2. Electronic Access. You may access this Federal Register document electronically through the EPA Internet under the “Federal Register” listings at http://www.epa.gov/fedrgstr/.

An electronic version of the public docket is available through EDOCKET. You may use EDOCKET at http://www.epa.gov/edocket/ to submit or view public comments, access the index listing of the contents of the official public docket, and to access those documents in the public docket that are available electronically. Once in the system, select “search,” then key in the appropriate docket identification number (EPA-HQ-OW-2004-0041).

For those wishing to make public comments, it is important to note that EPA's policy is that comments, whether submitted electronically or on paper, will be made available for public viewing in EPA's electronic public docket as EPA receives them and without change, unless the comment contains copyrighted material, confidential business information (CBI), or other information whose disclosure is restricted by statute. When EPA identifies a comment containing copyrighted material, EPA will provide a reference to that material in the version of the comment that is placed in EPA's electronic public docket. The entire printed comment, including the copyrighted material, will be available in the public docket.

Public comments submitted on computer disks mailed or delivered to the docket will be transferred to EPA's electronic public docket. Written public comments mailed or delivered to the Docket will be scanned and placed in EPA's electronic public docket.

B. How and to Whom Do I Submit Comments?

You may submit comments electronically, by mail, or through hand delivery/courier. To ensure proper receipt by EPA, identify the appropriate docket identification number (EPA-HQ-OW-2004-0041) in the subject line on the first page of your comment. Please ensure that your comments are submitted within the specified comment period.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment, and it allows EPA to contact you if further information on the substance of the comment is needed or if your comment cannot be read due to technical difficulties. EPA's policy is that EPA will not edit your comment, and any identifying or contact information provided in the body of a comment will be included as part of the comment placed in the official public docket and made available in EPA's electronic public docket. If EPA cannot read your comment due to technical difficulties and cannot contact you for clarification, EPA may not be able to consider your comment.

i. EDOCKET. Your use of EPA's electronic public docket to submit comments to EPA electronically is EPA's preferred method for receiving comments. Go directly to EDOCKET at http://www.epa.gov/edocket/, and follow the online instructions for submitting comments. To access EPA's electronic public docket from the EPA Internet Home Page, http://www.epa.gov, select “Information Sources,” “Dockets,” and “EDOCKET.” Once in the system, select “search,” and then key in Docket ID No. EPA-HQ-OW-2004-0041. The system is an anonymous access system, which means EPA will not know your identity, e-mail address, or other contact information unless you provide it in the body of your comment.

ii. E-mail. Comments may be sent by electronic mail (e-mail) to OW.Docket@epa.gov, Attention: Docket ID No. EPA-HQ-OW-2004-0041. In contrast to EPA's electronic public docket, EPA's e-mail system is not an anonymous access system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD-ROM. You may submit comments on a disk or CD-ROM mailed to the mailing address identified in section I.B.2 of this notice. These electronic submissions will be accepted in Word, WordPerfect or rich text files. Avoid the use of special characters and any form of encryption.

2. By Mail. Send your comments to: U.S. Environmental Protection Agency, OW Docket, EPA Docket Center (EPA/DC), Mailcode: 2822T, 1200 Pennsylvania Ave., NW., Washington, DC 20460, Attention Docket ID No. EPA-HQ-OW-2004-0041.

3. By Hand Delivery or Courier. Deliver your comments to: EPA Docket Center (EPA/DC), Room 3334, EPA West Building, 1301 Constitution Avenue, NW., Washington, DC, Attention Docket ID No. EPA-HQ-OW-2004-0041 (note: this is not a mailing address). Such deliveries are only accepted during the docket's normal hours of operation as identified in section I.A.1 of this notice.

Dated: December 7, 2007.
Mary T. Smith,
Director, Engineering and Analysis Division.

[FR Doc. E7-24154 Filed 12-11-07; 8:45 am]

BILLING CODE 6560-50-P